ENVIRONMENTAL PROTECTION AGENCY

[FRL-6877-8]

Agency Information Collection Activities: Submission for OMB Review; Comment Request, Standards of Performance for New Stationary Sources (NSPS) Smelters Including: Brass and Bronze; Copper Smelters; Zinc Smelters; Lead Smelters; Aluminum; Ferroalloy

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Standards of Performance for New Stationary Sources (NSPS) Smelters including Secondary Brass and Bronze Production Plants, Part 60, Subpart M; Primary Copper Smelter, Subpart P; Primary Zinc Smelters, Subpart Q; Primary Lead Smelters, Subpart R; Primary Aluminum Reduction Plants, Subpart S; Ferroalloy Production Facilities, Subpart Z; OMB No. 2060-0110; EPA No. 1604.06; expiration date is November 30, 2000. This ICR is a consolidation of four previously separate ICRs. The ICR describes the nature of the information collection and its expected burden and cost; where appropriate, it includes the actual data collection instrument.

DATES: Comments must be submitted on or before October 27, 2000.

ADDRESSES: Send comments, referencing EPA ICR No.1604.06 and OMB Control No. 2060-0110, to the following addresses: Sandy Farmer, U.S. Environmental Protection Agency, Collection Strategies Division (Mail Code 2822), 1200 Pennsylvania Avenue, NW, Washington, DC 20460; and to Office of Information and Regulatory Affairs, Office of Management and Budget (OMB), Attention: Desk Officer for EPA, 725 17th Street, NW, Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No.1604.06. For technical questions about the ICR, please contact: Deborah Thomas (2223-A).

SUPPLEMENTARY INFORMATION: Title: New Source Performance Standards for Smelters (40 CFR part 60), including: Brass and Bronze, Subpart M; Copper, Subpart P; Zinc, Subpart Q; Lead, Subpart R; Aluminum, Subpart S; Ferroalloy, Subpart Z; OMB Control No. 2060-0110; EPA ICR No.1604.06, expiration 11/30/2000. This is a request for an extension of 2 currently approved collections and a reinstatement of 2 lapsed collections.

Abstract: New Source Performance Standards for Secondary Brass and Bronze Production Plants, Primary Copper, Lead, and Zinc Smelters, Aluminum Reduction, and Ferroalloy Production Plants were developed to ensure that air emissions from these facilities do not cause ambient concentrations of particulate matter and certain gases to exceed levels that may reasonably be anticipated to endanger public health and the environment. Owners or operators of all affected facilities subject to NSPS must notify EPA of construction, modification, anticipated and actual startup dates, the initial performance test and results, demonstration of a continuous monitoring system (except for brass and bronze facilities), and any physical or operational change that may increase the emission rate. In addition, primary copper, lead, and zinc smelters and ferroalloy plants are required to semiannually report excess emissions and aluminum reduction plants must report excess emissions in each monthly or annual performance test. Ferroalloy plants must also report on any product change. Facilities must maintain records of performance test results, startups, shutdowns, and malfunctions. Primary smelters, aluminum reduction and ferroalloy production plants have additional daily or monthly recordkeeping requirements for certain operating parameters. In order to ensure compliance with the standards, adequate recordkeeping and reporting is necessary. This information enables the Agency to: (1) Identify the sources subject to the standard; (2) ensure initial compliance with emission limits; and (3) verify continuous compliance with the standard. Reporting and recordkeeping requirements on the part of the respondent are mandatory under section 114 of the Clean Air Act as amended and 40 CFR part 60. All reports are sent to the delegated State or Local authority. In the event that there is no such delegated authority, the reports are sent directly to the EPA Regional Office. All information submitted to the Agency for which a claim of confidentiality is made will be safeguarded according to the Agency policies set forth in Title 40, Chapter 1, part 2, subpart B—Confidentiality of Business Information (see 40 CFR part 2; 41 FR 36902, September 1, 1976; amended by 43 FR 39999, September 8, 1978; 43 FR 42251, September 28, 1978; 44 FR 17674, March 23, 1979).

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on October 29,1999 (64 FR 58398); no comments were received.

Burden Statement: The annual public reporting and recordkeeping burden for this collection of information is estimated to average two hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Operators of Smelters and Ferralloy Production Facilities

Estimated Number of Respondents: 27.

Average Frequency of Response: 3/yr/respondent.

Estimated Total Annual Hour Burden: 5,351 hours.

Estimated Total Annualized Capital and O&M Cost Burden: $231,900.

Send comments on the Agency's need for this information, the accuracy of the provided burden estimates, and any suggested methods for minimizing respondent burden, including through the use of automated collection techniques to the following addresses. Please refer to EPA ICR No. 1604.06 and OMB No. 2060-0110 in any correspondence.

Dated: September 20, 2000.
Oscar Morales,
Director, Collection Strategies Division.

[FR Doc. 00-24786 Filed 9-26-00; 8:45 am]

BILLING CODE 6560-50-P